DEPARTMENT OF THE INTERIOR

National Park Service

[NPS-WASO-NRNHL-21884; PPWOCRADI0, PCU00RP14.R50000]

National Register of Historic Places; Notification of Pending Nominations and Related Actions

AGENCY: National Park Service, Interior.

ACTION: Notice.

SUMMARY: The National Park Service is soliciting comments on the significance of properties nominated before August 27, 2016, for listing or related actions in the National Register of Historic Places.

DATES: Comments should be submitted by October 11, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before August 27, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Hilvert, Fred G., House, 106 E. Country Club Dr., Phoenix, 16000700

DISTRICT OF COLUMBIA

District of Columbia

Federal Home Loan Bank Board Building (FHLBB), 1700 G St. NW., Washington, 16000701

KANSAS

Cowley County

Weigle Barn, (Agriculture-Related Resources of Kansas MPS) 14097 189th Rd., Burden, 16000702

Crawford County

Fourth and Broadway Historic District, 401-424 N. Broadway, 105 and 121 E. 4th Sts., Pittsburg, 16000703

Ellis County

Brungardt—Dreiling Farmstead, (Agriculture-Related Resources of Kansas MPS) 2567 Golf Course Rd., Victoria, 16000704

Marion County

Donahue's Santa Fe Trail Segment, (Santa Fe Trail MPS) Address Restricted, Durham, 16000705

Marshall County

Marysville Union Pacific Depot, 000 Hedrix Ave. (at Alston St.), Marysville, 16000709

McPherson County

Rosberg—Holmgren—Clareen Block (Boundary Increase and Additional Documentation), 109-111-113 N. Main St., Lindsborg, 16000706

Sedgwick County

Knightley's Parking Garage, 303 S. Broadway, Wichita, 16000707

Shawnee County

Santa Fe Hospital, 600 SE Madison St., Topeka, 16000708

LOUISIANA

Orleans Parish

Bank of New Orleans (BNO) Building, 1010 Common St., New Orleans, 16000712

D'Antonio, Guy J. and Rose Caruso, House, 2621 O'Reilly St., New Orleans, 16000710

Treme Market, 1508 Orleans Ave., New Orleans, 16000711

MASSACHUSETTS

Worcester County

District No. 4 School, 191 East St., Petersham, 16000713

SOUTH CAROLINA

Chester County

Phinney, James, House, 2762 Blaney Rd., Chester, 16000714

Oconee County

Oconee County Courthouse, 211 W. Main St., Walhalla, 16000715

TEXAS

Austin County

San Felipe de Austin Historic and Archeological District, 15945 FM 1458, San Felipe, 16000716

El Paso County

Magoffin Historic District, Roughly bounded by San Antonio, Virginia, Myrtle, and Cotton Sts., El Paso, 16000717

Grayson County

Eisenhower Birthplace, 720 S. Lamar, Denison, 16000718

Lampasas County

Markward Homestead, 101 East FM 580, Lampasas, 16000719

Travis County

Austin Fire Drill Tower, 201 W. Cesar Chavez St., Austin, 16000720

A request for removal has been made for the following resource:

VIRGINIA

Buchanan County

Whitewood High School, 17424 Dismal River Rd., Whitewood, 08000893

Authority: 60.13 of 36 CFR part 60.

Dated: September 6, 2016.
J. Paul Loether,
Chief, National Register of Historic Places/National Historic Landmarks Program.

[FR Doc. 2016-22918 Filed 9-22-16; 8:45 am]

BILLING CODE 4312-51-P